DEPARTMENT OF THE TREASURY

Agreement for a Social Impact Partnership Project

AGENCY: Department of the Treasury.

ACTION: Notice.

SUMMARY: In accordance with the Social Impact Partnerships to Pay for Results Act (“SIPPRA”), the U.S. Department of the Treasury (“Treasury”) and New York City Mayor's Office of Criminal Justice (“NYC-MOCJ”) have entered into an agreement for a social impact partnership project (the “Project Grant Agreement”).

SUPPLEMENTARY INFORMATION: The Project Grant Agreement contains the following features:

(1) The outcome goals of the social impact partnership project:

NYC-MOCJ's Cure Violence Pay for Success Project proposes the following outcomes: Reduced shootings, reduced victimization and reduced associated medical (Medicaid) costs. NYC-MOCJ expects the newly funded Cure Violence neighborhoods to experience a 40 percent reduction in gunshot wound hospitalizations each period. If achieved, this reduction would lead to a 40 percent decrease in federal Medicaid spending.

(2) A description of each intervention in the project:

NYC-MOCJ will expand their evidence-based model of violence interruption, the Cure Violence program, to eight new program service areas to reduce shootings and hospitalizations over a five-year span by targeting previously unserved geographies and youth at the highest risk for involvement in violence. The Cure Violence model is a neighborhood-based public health approach to gun violence reduction that seeks to change individual and community attitudes and norms about gun violence. The program relies on the efforts of community-based “outreach workers” and “violence interrupters” in neighborhoods that are the most vulnerable to gun violence. These workers use their personal relationships, social networks, and knowledge of their communities to dissuade specific individuals and neighborhood residents in general from engaging in violence.

(3) The target population that will be served by the project:

NYC-MOCJ anticipates Cure Violence participants will be between the age of 16 and 24 years of age at the time of the SIPPRA project start date and are at high risk for involvement in violence.

(4) The expected social benefits to participants who receive the intervention and others who may be impacted:

Participants and the community as a whole will receive a range of social benefits. Through the project, participants gain meaningful supportive networks, experience an increase in pro-social behaviors, and a decrease of gun incidents and a decline in violence. Communities in which the Cure Violence model has been implemented experience declines in violence.

(5) The detailed roles, responsibilities, and purposes of each Federal, State, or local government entity, intermediary, service provider, independent evaluator, investor, or other stakeholder:

The Mayor's Office of Criminal Justice. NYC-MOCJ is committed to the Cure Violence approach and to providing upfront funding for all sites in this proposal through City Tax Levy funds. Therefore, the project will not need any private investors. NYC-MOCJ senior staff, contracts, and finance teams will oversee partner and service provider procurement and funding.

Service Providers. NYC-MOCJ contracts with local nonprofit service providers to run Cure Violence initiatives in each catchment area. The service providers are responsible for establishing program office space and implementing the full Cure Violence program model. The five service providers are: Good Shepherd Services/BRAG, BronxConnect/Release the Grip, Getting Out and Staying Out/Stand Against Violence, Jewish Community Council/Operation H.O.O.D, and Man Up!, Inc.

Intermediary. Social Finance will manage the project governance process and will work closely with NYC-MOCJ and Cure Violence service providers to monitor the program's operations, analyze accumulated data, and track the impact of the program on the target population in real-time.

(6) The payment terms, the methodology used to calculate outcome payments, the payment schedule, and performance thresholds:

The payments will correspond to the federal share of savings from the anticipated reduction in shooting-related Medicaid expenses in each calendar year of the project (each, an outcome period). Federal value is calculated as the estimated effect size of Cure Violence on emergency treatment and hospitalization for Medicaid-eligible victims of gun violence during each outcome period as compared to 24 comparison sites over the same time period.

(7) The project budget:

(8) The project timeline:

(9) The project eligibility criteria:

In accordance with the Cure Violence model, eligible program participants should be at high risk for involvement in violence, determined by meeting at least four of the following seven criteria:

• Thought to be a member of a gang known to be actively involved in violence;

• History of criminal activity, including crimes against persons, pending or prior arrests for weapons offenses;

• Thought to have access to a weapon;

• High-risk street activity, thought to be involved in street activity that is highly associated with violence;

• Victim of a recent shooting;

• Recently released from prison for a crime associated with violence; and/or

• Between the ages of 16 and 24.

(10) The evaluation design:

The evaluation team will employ a quasi-experimental difference-in-differences evaluation approach.

(11) The metrics that will be used in the evaluation to determine whether the outcomes have been achieved as a result of each intervention and how these metrics will be measured:

The evaluators will compare the number of gunshot-wound hospitalizations in the eight sites that receive the Cure Violence intervention, as compared to the comparison sites that do not receive the intervention.

(12) The estimate of the savings to the Federal, State, and local government, on a program-by-program basis and in the aggregate, if the agreement is entered into and implemented and the outcomes are achieved as a result of each intervention:

Federal Savings—$17,595,000

State Savings—$17,595,000

Catherine Wolfram,
Deputy Assistant Secretary for Climate and Energy Economics, Office of Economic Policy.

[FR Doc. 2022-03938 Filed 2-23-22; 8:45 am]

BILLING CODE 4810-AK-P